NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: 10 CFR Part 75—Safeguards on Nuclear Material, Implementation of US/IAEA Agreement.

3. The form number if applicable: N/A.

4. How often the collection is required: Installation information is submitted upon written notification from the Commission. Changes are submitted as they occur. Nuclear material accounting and control information is submitted in accordance with specific instructions.

5. Who will be required or asked to report: All persons licensed or certified by the Commission or Agreement States to possess source or special nuclear material at an installation specified on the U.S. eligible facilities list as determined by the Secretary of State or his designee and filed with the Commission, as well as holders of construction permits and persons who intend to receive source material.

6. An estimate of the number of annual responses: 8.

7. The estimated number of annual respondents: Seven, one of which perform the reporting and recordkeeping and the other six perform the recordkeeping only. The NRC-licensed facilities selected for inspection will be reporting or updating design information. This one facility and the six facilities selected pursuant to a separate protocol will maintain transfer and material balance records, but reporting to the IAEA will be through the U.S. State system (Nuclear Materials Management and Safeguards System).

8. An estimate of the total number of hours needed annually to complete the requirement or request: 2,800 (.2 hours for reporting and 2,800 hours for recordkeeping [400 hours per recordkeeper]).

9. An indication of whether Section 3507(d), Public Law 104-13 applies: N/A.

10. Abstract: 10 CFR Part 75 establishes requirements to implement the agreement between the United States and the International Atomic Energy Agency (IAEA). Under that agreement, NRC is required to collect information and make it available to the IAEA.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by July 5, 2005. Comments received after this date will be considered if it is practical to do so, but assurance of consideration cannot be given to comments received after this date.

John Asalone, Office of Information and Regulatory Affairs (3150-0055), NEOB-10202, Office of Management and Budget, Washington, DC 20503.

Comments can also be e-mailed to John_A._Asalone@ombeop.gov or submitted by telephone at (202) 395-3087.

The NRC Clearance Officer is Brenda Jo. Shelton, 301-415-7233.

Dated at Rockville, Maryland, this 26th day of May, 2005.
For the Nuclear Regulatory Commission.
Brenda Jo. Shelton,
NRC Clearance Officer, Office of the Chief Information Officer.

[FR Doc. E5-2847 Filed 6-2-05; 8:45 am]

BILLING CODE 7590-01-P